DEPARTMENT OF THE INTERIOR

U.S. Geological Survey

National Cooperative Geologic Mapping Program (NCGMP) Advisory Committee

AGENCY: U.S. Geological Survey, Interior.

ACTION: Notice of meeting.

SUMMARY: Pursuant to Public Law 106-148, the NCGMP Advisory Committee will meet on May 18th, 2010, in Room #1-475 of the Ziggurat building, 3rd Street West, Building 707, Sacramento, California 95605, and on May 19th, 2010, in Room 1200 of the California Geological Survey Headquarters Building, 801 K Street, Sacramento, California 95814. The Advisory Committee, comprising representatives from Federal agencies, State agencies, academic institutions, and private companies, shall advise the Director of the U.S. Geological Survey on planning and implementation of the geologic mapping and data preservation programs.

The Committee will hear updates on progress of the NCGMP toward fulfilling the purposes of the National Geological Mapping Act of 1992; the Federal, State, and education components of the NCGMP; and the National Geological and Geophysical Data Preservation Program.

DATES: May 18-19, 2010, commencing at 8:30 a.m. on May 18 and adjourning by 1 p.m. on May 19.

FOR FURTHER INFORMATION CONTACT: Stephanie Brown, U.S. Geological Survey, Mail Stop 908, National Center, Reston, Virginia 20192, (703) 648-6948.

SUPPLEMENTARY INFORMATION: Meetings of the National Cooperative Geological Mapping Program Advisory Committee are open to the Public.

Dated: March 8, 2010.
Linda Gundersen,
Acting Associate Director for Geology and International Programs.

[FR Doc. 2010-5543 Filed 3-12-10; 8:45 am]

BILLING CODE 4311-AM-P